DEPARTMENT OF TRANSPORTATION

Federal Aviation Administration

14 CFR Part 39

[Docket No. FAA-2020-0818; Project Identifier MCAI-2020-00987-A]

RIN 2120-AA64

Airworthiness Directives; Pilatus Aircraft Ltd.

AGENCY: Federal Aviation Administration (FAA), DOT.

ACTION: Notice of proposed rulemaking (NPRM).

SUMMARY: The FAA proposes to adopt a new airworthiness directive (AD) for certain Pilatus Aircraft Ltd. (Pilatus) Model PC-24 airplanes. This proposed AD results from mandatory continuing airworthiness information (MCAI) originated by an aviation authority of another country to identify and correct an unsafe condition on an aviation product. The MCAI identifies the unsafe condition as electrical harness installations on PC-24 airplanes that are not in compliance with the approved design. This unsafe condition could lead to wire chafing and potential arcing or failure of wires having the incorrect length, possibly resulting in loss of system redundancy, or generation of smoke and smell, or loss of power plant fire protection function. The FAA is proposing this AD to address the unsafe condition on these products.

DATES: The FAA must receive comments on this proposed AD by November 2, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

• For service information identified in this NPRM, contact Pilatus Aircraft Ltd., CH-6371, Stans, Switzerland; telephone: +41 848 24 7 365; email: techsupport.ch@pilatus-aircraft.com; internet: https://www.pilatus-aircraft.com/. You may view this service information at the FAA, Airworthiness Products Section, Operational Safety Branch, 901 Locust, Kansas City, MO 64106. For information on the availability of this material at the FAA, call 816-329-4148. It is also available on the internet at https://www.regulations.gov by searching for and locating Docket No. FAA-2020-0818.

Examining the AD Docket

You may examine the AD docket on the internet at https://www.regulations.gov by searching for and locating Docket No. FAA-2020-0818; or in person at Docket Operations between 9 a.m. and 5 p.m., Monday through Friday, except Federal holidays. The AD docket contains this NPRM, the MCAI, any comments received, and other information. The street address for Docket Operations is listed above. Comments will be available in the AD docket shortly after receipt.

FOR FURTHER INFORMATION CONTACT: Doug Rudolph, Aerospace Engineer, FAA, General Aviation & Rotorcraft Section, International Validation Branch, 901 Locust, Room 301, Kansas City, Missouri 64106; telephone: (816) 329-4059; fax: (816) 329-4090; email: doug.rudolph@faa.gov.

SUPPLEMENTARY INFORMATION:

Comments Invited

The FAA invites you to send any written relevant data, views, or arguments about this proposed AD. Send your comments to an address listed under the ADDRESSES section. Include “Docket No. FAA-2020-0818; Project Identifier MCAI-2020-00987-A” at the beginning of your comments. The FAA will consider all comments received by the closing date and may amend this proposed AD because of those comments.

Except for Confidential Business Information (CBI) as described in the following paragraph, and other information as described in 14 CFR 11.35, the FAA will post all comments received, without change, to https://www.regulations.gov, including any personal information you provide. The FAA will also post a report summarizing each substantive verbal contact it receives about this proposed AD.

Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aerospace Engineer, FAA, General Aviation & Rotorcraft Section, International Validation Branch, 901 Locust, Room 301, Kansas City, Missouri 64106; telephone: (816) 329-4059; fax: (816) 329-4090; email: doug.rudolph@faa.gov. Any commentary that the FAA receives which is not specifically designated as CBI will be placed in the public docket for this rulemaking.

Discussion

The European Union Aviation Safety Agency (EASA), which is the Technical Agent for the Member States of the European Union Community, has issued EASA AD No. 2020-0158, dated July 16, 2020 (referred to after this as “the MCAI”), to address an unsafe condition on certain Pilatus Aircraft Ltd. (Pilatus) Model PC-24 airplanes. The MCAI states:

During production, electrical harness installations on some PC-24 aeroplanes were found not to comply with the approved design.

This condition, if not corrected, could lead to wire chafing and potential arcing, or to failure of wires having the incorrect length, possibly resulting in loss of system redundancy, or generation of smoke and smell, or loss of power plant fire protection function.

To address this potential unsafe condition, Pilatus issued the [service bulletin] SB, providing instructions to improve the electrical harness installations in the nose bay, cockpit, fuselage, wing fairing and rear fuselage areas.

For the reason described above, this [EASA] AD requires modification of the electrical harness installations.

The incorrect length wires are too short in length and do not have appropriate slack, which could lead to wires being pulled loose from the terminals during flight or ground operation. Generation of smell refers to the smell from electrical arcing.

You may obtain further information by examining the MCAI in the AD docket on the internet at https://www.regulations.gov by searching for and locating Docket No. FAA-2020-0818.

Related Service Information Under 1 CFR Part 51

The FAA reviewed Pilatus PC-24 Service Bulletin No. 91-001, dated April 7, 2020. The service information specifies procedures necessary to improve the electrical harness installation in the nose bay, cockpit, avionics rack, fuselage, wing fairing, and rear fuselage. This service information is reasonably available because the interested parties have access to it through their normal course of business or by the means identified in the ADDRESSES section.

FAA's Determination and Requirements of the Proposed AD

This product has been approved by the aviation authority of another country and is approved for operation in the United States. Pursuant to our bilateral agreement with this State of Design Authority, it has notified the FAA of the unsafe condition described in the MCAI and service information referenced above. The FAA is proposing this AD because the FAA evaluated all information and determined the unsafe condition exists and is likely to exist or develop on other products of the same type design.

Costs of Compliance

The FAA estimates that this proposed AD would affect ≪Number_of_Aircraft≫ products of U.S. registry. The FAA also estimates that it would take 20 work-hours per product to comply with the requirements of this proposed AD. The average labor rate is $85 per work-hour. Required parts would cost about ≪Inspect_Parts≫ per product.

Based on these figures, the FAA estimates the cost of the proposed AD on U.S. operators would be ≪Fleet_Cost≫, or $1,775 per product.

According to the manufacturer, some of the costs of this AD may be covered under warranty, thereby reducing the cost impact on affected individuals. The FAA does not control warranty coverage for affected individuals. As a result, the FAA has included all costs in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pilatus Aircraft Ltd.: Docket No. FAA-2020-0818; Project Identifier MCAI-2020-00987-A.

(a) Comments Due Date

The FAA must receive comments by November 2, 2020.

(b) Affected ADs

None.

(c) Applicability

This AD applies to Pilatus Aircraft Ltd. Model PC-24 airplanes, serial numbers 101 through 160 inclusive, certificated in any category.

(d) Subject

Joint Aircraft System Component (JASC) Code 2497, ELECTRICAL POWER SYSTEM WIRING; 3197, INSTRUMENT SYSTEM WIRING.

(e) Unsafe Condition

This AD was prompted by electrical harness installations on some PC-24 airplanes in production that did not comply with the approved design. The FAA is issuing this AD to prevent wire chafing and potential arcing or failure of wires having the incorrect length. The unsafe condition, if not addressed, could result in loss of system redundancy, electrical arcing, or loss of power plant fire protection.

(f) Actions and Compliance

Unless already accomplished, during the next annual inspection after the effective date of this AD or within 12 months after the effective date of this AD, whichever occurs later, modify the electrical harness installation in accordance with sections 3.A. through 3.H. of Accomplishment Instructions in Pilatus PC-24 Service Bulletin No. 91-001, dated April 7, 2020.

(g) Alternative Methods of Compliance (AMOCs)

(1) The Manager, International Validation Branch, FAA, has the authority to approve AMOCs for this AD, if requested using the procedures found in 14 CFR 39.19. Send information to Doug Rudolph, Aerospace Engineer, FAA, General Aviation & Rotorcraft Section, International Validation Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Before using any approved AMOC, notify your appropriate principal inspector, or lacking a principal inspector, the manager of the local flight standards district office/certificate holding district office.

(h) Related Information

(1) For more information about this AD, contact Doug Rudolph, Aerospace Engineer, FAA, General Aviation & Rotorcraft Section, International Validation Branch, 901 Locust, Room 301, Kansas City, Missouri 64106; telephone: (816) 329-4059; fax: (816) 329-4090; email: doug.rudolph@faa.gov.

(2) Refer to MCAI European Union Aviation Safety Agency (EASA) AD No. 2020-0158, dated July 16, 2020, for more information. You may examine the EASA AD in the AD docket on the internet at https://www.regulations.gov by searching for and locating it in Docket No. FAA-2020-0818.

(3) For service information identified in this AD, contact Pilatus Aircraft Ltd., CH-6371, Stans, Switzerland; telephone: +41 848 24 7 365; email: techsupport.ch@pilatus-aircraft.com; internet: https://www.pilatus-aircraft.com/. You may review this referenced service information at the FAA, Airworthiness Products Section, Operational Safety Branch, 901 Locust, Kansas City, Missouri 64106. For information on the availability of this material at the FAA, call (816) 329-4148.

Issued on September 11, 2020.
Lance T. Gant,
Director, Compliance & Airworthiness Division, Aircraft Certification Service.

[FR Doc. 2020-20485 Filed 9-16-20; 8:45 am]

BILLING CODE 4910-13-P